FEDERAL COMMUNICATIONS COMMISSION

47 CFR Part 73

[DA 05-1026; MB Docket No. 02-387; RM-10623]

Radio Broadcasting Services; Lahaina and Waianae, HI

AGENCY: Federal Communications Commission.

ACTION: Final rule.

SUMMARY: In response to a Notice of Proposed Rule Making, 68 FR 2733 (January 21, 2003), this Report and Order reallots Channel 266C, FM Station KLHI, Lahaina, Hawaii, to Waianae, Hawaii, and modifies Station KLHI's license accordingly. The coordinates for Channel 266C at Waianae, Hawaii, are 21-23-51 NL and 158-06-01 WL, with a site restriction of 10.7 kilometers (6.6 miles) southeast of Waianae.

DATES: Effective May 23, 2005.

FOR FURTHER INFORMATION CONTACT: R. Barthen Gorman, Media Bureau, (202) 418-2180.

SUPPLEMENTARY INFORMATION: This is a synopsis of the Commission's Report and Order, MB Docket No. 02-387, adopted April 6, 2005, and released April 8, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334, and 336.

§ 73.202 [Amended]

2. Section 73.202(b), the Table of FM Allotments under Hawaii, is amended by removing Channel 266C1 at Lahaina, and adding Waianae, Channel 266A.

Federal Communications Commission.
John A. Karousos,
Assistant Chief, Audio Division, Media Bureau.

[FR Doc. 05-8210 Filed 4-26-05; 8:45 am]

BILLING CODE 6712-01-P